FEDERAL COMMUNICATIONS COMMISSION

47 CFR Part 73

[DA 02-300; MM Docket No. 01-18; RM-10026; RM-10098]

Radio Broadcasting Services; Arriba, Bennett, Brush and Pueblo, CO; Pine Bluffs, WY

AGENCY: Federal Communications Commission.

ACTION: Final rule; correction.

SUMMARY: The Federal Communications Commission published in the Federal Register of February 22, 2002, a document concerning updating the FM Table of Allotments for Section 73.202(b). The effective date was published incorrectly. This document corrects the effective date.

DATES: Effective March 25, 2002.

FOR FURTHER INFORMATION CONTACT: Nancy Joyner, Mass Media Bureau, (202) 418-2180.

SUPPLEMENTARY INFORMATION: On February 22, 2002, the Commission published a document (67 FR 8205) amending § 73.202(b), the Table of FM Allotments by adding Channel 240A to Arriba, Colorado, Channel 296C to Bennett, Colorado, Channel 295C2 to Pueblo, Colorado, and Channel 238C3 to Pine Bluffs, Wyoming. In addition, the document removed Channel 296C1 from Brush, Colorado¹ and Channel 296C2 from Pueblo, Colorado. The correct effective date is March 25, 2002.

¹ 47 CFR parts 70 to 79, revised October 1, 2000, at Section 73.202(b) under Colorado, reflects the allotment of Channel 296A at Brush, Colorado. However, that allotment was modified in the context of MM Docket No. 88-605, adopted September 11, 1989, to specify Channel 296C1.

Federal Communications Commission.
John A. Karousos,
Chief, Allocations Branch, Policy and Rules Division, Mass Media Bureau.

[FR Doc. 02-5162 Filed 3-4-02; 8:45 am]

BILLING CODE 6712-01-P